DEPARTMENT OF ENERGY

Federal Energy Regulatory Commission

[Docket Nos. CP02-399-000, CP02-400-000 and CP02-401-000]

Missouri Interstate Gas, LLC; Notice of Application

July 9, 2002.

Take notice that on July 3, 2002, Missouri Interstate Gas, LLC (Missouri Interstate), 110 Algana Court, St. Peters, Missouri 63376, filed an application for a certificate of public convenience and necessity and related authorizations pursuant to Section 7(c) of the Natural Gas Act (NGA) and the Commission's Rules and Regulations thereunder. Missouri Interstate requests authorization for the following:

(i) A certificate of public convenience and necessity authorizing Missouri Interstate to construct, install, and operate natural gas pipeline facilities in Illinois and Missouri;

(ii) A blanket certificate of public convenience and necessity pursuant to Part 284, Subpart G of the Commission regulations authorizing the transportation of gas for others;

(iii) A blanket certificate of public convenience and necessity under Part 157, Subpart F of the Commission's regulations authorizing the construction, acquisition, abandonment and operation of certain facilities, all as more thoroughly described in the application on file with the Commission and open to public inspection. This filing may be viewed on the web at http://www.ferc.gov using the “RIMS” link, select “Docket #” and follow the instructions (please call (202) 208-2222 for assistance).

Missouri Interstate asks the Commission to issue a final certificate order by October 1, 2002, to allow Missouri Interstate to commence transportation services in time for the 2002-2003, heating season.

Any questions regarding Missouri Interstate's application should be directed to David J. Ries, President, Missouri Interstate Gas, LLC, 110 Algana Court, St. Peters, Missouri, 63376 at (636) 926-0387 or by fax (636) 926-3668 or Jane E. Stelck, Heller Ehrman, White & McAuliffe, LLP, Suite 300, 1666 K Street NW, Washington, DC, 20006 at (202) 912-2183 or by fax (202) 912-2020.

Missouri Interstate proposes to own, operate and place into service approximately 5.6 miles of existing 12-inch diameter pipeline and to construct approximately 1 mile of 12-inch diameter pipeline and interconnection valves. The existing facility extends from a point at the edge of the Mississippi River in Madison County, Illinois, under the river, to a point approximately five miles west of the Mississippi River in St. Charles County, Missouri.

Missouri Interstate proposes to transport up to 20 MMcf/day of natural gas to customers in the West St. Louis suburbs in Missouri. Missouri Interstate estimates that the acquisition, conversion, construction and interconnections of the pipeline will result in an overall plant investment of approximately $13,361,180.

Missouri Interstate proposes to provide both firm and interruptible services based on an open access non-discriminatory basis, pursuant to Part 284 of the Commission's Regulations, with services available at both recourse and negotiated rates. Missouri Interstate's with cost-based rates are designed using a straight-fixed variable rate structure. Missouri Interstate had submitted a pro forma FERC Gas Tariff for Commission review.

There are two ways to become involved in the Commission's review of this project. First, any person wishing to obtain legal status by becoming a party to the proceedings for this project should, on or before July 30, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-17719 Filed 7-12-02; 8:45 am]

BILLING CODE 6717-01-P